EQUAL EMPLOYMENT OPPORTUNITY COMMISSION

Sunshine Act Notice: Cancellation of Meeting

FEDERAL REGISTER CITATION OF PREVIOUS ANNOUNCEMENT: 86 FR 1966, January 11, 2021.

PREVIOUSLY ANNOUNCED TIME AND DATE OF THE MEETING: January 14, 2021 at 1:00 p.m. ET.

SUMMARY: The Equal Employment Opportunity Commission is issuing this notice to cancel the audio-only conference scheduled to be held at 1:00 p.m. on January 14, 2021.

CONTACT PERSON FOR MORE INFORMATION: Rachel V. See, Acting Executive Officer, (202) 921-2545.

Dated: January 13, 2021.
Rachel V. See,
Acting Executive Officer, Executive Secretariat.

[FR Doc. 2021-01158 Filed 1-14-21; 11:15 am]

BILLING CODE 6570-01-P